DEPARTMENT OF LABOR

Employment and Training Administration

[TA-W-52,195]

APW, Creedmoor, NC; Notice of Termination of Investigation

Pursuant to section 221 of the Trade Act of 1974, as amended, an investigation was initiated on July 1, 2003 in response to a worker petition filed a company official on behalf of workers at APW, Creedmoor, North Carolina.

The petitioner has requested that the petition be withdrawn. Consequently, the investigation has been terminated.

Signed at Washington, DC this 11th day of July, 2003.
Linda G. Poole,
Certifying Officer, Division of Trade Adjustment Assistance.

[FR Doc. 03-18812 Filed 7-23-03; 8:45 am]

BILLING CODE 4510-30-P